DEPARTMENT OF THE TREASURY

Submission for OMB Review; Comment Request

August 24, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 29, 2006 to be assured of consideration.

Internal Revenue Service (IRS)

OMB Number: 1545-1699.

Type of Review: Extension.

Title: REG-103805-99 (Final) Agent for Consolidated Group.

Description: The information is needed in order for a terminating common parent of a consolidated group to designate a substitute agent for the group and receive approval of the Commissioner, or for a default substitute agent to notify the Commissioner that it is the default substitute agent, pursuant to Trea. Reg. Sec. 1.1502-77(d). The Commissioner will use the information to determine whether to approve the designation of the substitute agent (if approval is required) and to change the IRS's records to reflect the information about the substitute agent.

Respondents: Businesses and other for-profit institutions.

Estimated Total Burden Hours: 200 hours.

OMB Number: 1545-0991.

Type of Review: Extension.

Title: Application to Participate in the IRS e-file Program.

Form: 8633.

Description: Form 8633 is used by tax preparers, electronic return collectors, software firms, service bureaus and electronic transmitters, as an application to participate in the electronic filing program covering individual income tax returns.

Respondents: Business and other for-profit institutions.

Estimated Total Burden Hours: 50,000 hours.

OMB Number: 1545-1538.

Type of Review: Extension.

Title: Notice 97-34, Information Reporting on Transactions With Foreign Trusts and on Large Foreign Gifts.

Description: This notice provides guidance on the foreign trust and foreign gift information reporting provisions contained in the Small Business Job Protection Act of 1996.

Respondents: Businesses or other for-profit institutions.

Estimated Total Burden Hours: 3,750 hours.

OMB Number: 1545-0892.

Type of Review: Extension.

Title: Report of Cash Payment Over $10,000 Received in a Trade or Business.

Form: 8300.

Description: Anyone in a trade or business who, in the course of such trade or business, receives more than $10,000 in cash or foreign currency in one or more related transactions must report it to the IRS and provide a statement to the payor. Any transaction must report be reported under Title 31 on Form 4789 is exempted from reporting the same transaction on Form 8300.

Respondents: Businesses or other for-profit institutions.

Estimated Total Burden Hours: 87,757 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-14467 Filed 8-29-06; 8:45 am]

BILLING CODE 4830-01-P